DEPARTMENT OF THE INTERIOR

Bureau of Indian Affairs

[AAK4004200/A0R5C4040.9999.00/134A2100DD]

Proclaiming Certain Lands as Reservation for the Stillaguamish Tribe of Indians of Washington

AGENCY: Bureau of Indian Affairs, Department of the Interior.

ACTION: Notice of Reservation Proclamation.

SUMMARY: This notice informs the public that the Assistant Secretary—Indian Affairs proclaimed approximately 63.96 acres, more or less, as the Stillaguamish Indian Reservation.

FOR FURTHER INFORMATION CONTACT: Robin A. White, Bureau of Indian Affairs, Division of Real Estate Services, 1849 C Street NW., MS-4642-MIB, Washington, DC 20240, telephone (202) 208-1110.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467) for the lands described below. The land was proclaimed to be the Stillaguamish Indian Reservation for the exclusive use of Indians on that reservation who are entitled to reside at the reservation by enrollment or tribal membership.

Stillaguamish Indian Reservation

Snohomish County, Washington

130-T1143

The South Half of the Northeast Quarter of the Southeast Quarter of Section 32, Township 32 North, Range 5 East, W.M., Record of Snohomish County, Washington.

Situate in Snohomish County, State of Washington.

Containing 20 acres, more or less.

130-T1201

Lot 1 of Snohomish County Short Plat No. PFN96-102231SP recorded under Auditor's file number 9701215001, being a portion of the Southeast Quarter of the Southeast Quarter of Section 32, Township 32 North, Range 5 East, W.M.

Situate in the County of Snohomish, State of Washington.

Containing 2.30 acres, more or less.

130-T1202

Lot 2 of Snohomish County Short Plat No. PFN96-102231SP recorded under Auditor's file number 9701215001, being a portion of the Southeast Quarter of the Southeast Quarter of Section 32, Township 32 North, Range 5 East, W.M.

Situate in the County of Snohomish, State of Washington.

Containing 7.52 acres, more or less.

130-T1209

Lot 1 of Leishman Acreage Tracts, according to plat recorded in Volume 34 of plats at page 81, in Snohomish County, Washington;

Except the South 2.73 feet thereof.

Situate in the County of Snohomish, State of Washington.

Containing 3.60 acres, more or less.

130-T1210

The South Half of the South Half of the North Half of the Northeast Quarter of the Southeast Quarter of Section 32, Township 32 North, Range 5 East, W.M. Except the East 30 feet as conveyed to Snohomish County for road purposes, deeds recorded under Auditor's File Number 213314 and 668384, records of Snohomish County, Washington.

(Also known as Lot 4, Snohomish County Short Plat No. SP42 (3-83), recorded under Auditor's File Number 8304220210, records of Snohomish County, Washington)

Situate in the County of Snohomish, State of Washington.

Containing 4.89 acres, more or less.

130-T1224

Parcel A:

The South 2.73 feet of Lot 1, Leishman Acreage Tracts, according to the plat thereof, recorded in Volume 23, of Plats, Page 81, Records of Snohomish County, Washington.

Parcel B:

Lot 2, Leishman Acreage Tracts, according to the plat thereof, recorded In Volume 23, of Plats, Page 81, Records of Snohomish County, Washington.

Parcel C:

The East 280 Feet of the South Half of the South Half of the South Half of the North Half of the Southeast Quarter of the Southeast Quarter of Section 32, Township 32 North, Range 5 East, W.M.;

Except the East 30 Feet thereof as conveyed to Snohomish County for road purposes, Deeds recorded under Auditor's File Number 213314 and 668384, Records of Snohomish County, Washington.

Parcel D:

The South Half of the South Half of the South Half of the North Half of the Southeast Quarter of the Southeast Quarter of Section 32, Township 32 North, Range 5 East, W.M.;

Except the East 280 Feet Thereof.

Parcel E:

The North Half of the South Half of the North Half of the South Half of the Southeast Quarter of the Southeast Quarter of Section 32, Township 32 North, Range 5 East, W.M.;

Except the East 30 Feet thereof as conveyed to Snohomish County for road purposes, Deeds recorded under Auditor's File Number 213314 and 668384, Records of Snohomish County, Washington.

(Also Known as Parcel 2 of Boundary Line Adjustment recorded under Auditor's File Number 200210030055, Records of Snohomish County, Washington).

Parcel F:

The South Half of the South Half of the North Half of the South Half of the Southeast Quarter of the Southeast Quarter of Section 32, Township 32 North, Range 5 East, W.M.;

Except the East 30 Feet thereof as conveyed to Snohomish County for road purposes, Deeds recorded under Auditor's File Number 213314 and 668384, Records of Snohomish County, Washington.

(Also Known as Parcel 1 of Boundary Line Adjustment recorded under Auditor's File Number 200210030055, Records of Snohomish County, Washington).

Parcel G:

The North Half of the North Half of the South Half of the Southeast Quarter of the Southeast Quarter of Section 32, Township 32 North, Range 5 East W.M.

Except the East 30 Feet thereof conveyed to Snohomish County under Auditor's File Nos. 213314 and 668384 for road purposes.

Parcel H:

Lot 1 of Short Plat Number Sp 352 (11-83), recorded under Recording Number 8604150304, being a re-record of Recording Number 8603280222, being a Portion of the Southeast Quarter of the Southeast Quarter of Section 32, Township 32 North, Range 5 East W.M., in Snohomish County Washington.

All Situate in the County of Snohomish, State of Washington.

Containing 18.34 acres, more or less.

130-T1229

Parcel A:

The North Half of the East Half of Government Lot 1, Section 5, Township 31 North, Range 5 East, W.M.

Except the East 330 feet thereof;

And Except the North 30 feet thereof conveyed to Snohomish County under Auditor's File No. 442482 and 655266.

Parcel B:

The North 348.62 feet of the East 330 feet of the North Half of the East Half of Government Lot 1, Section 5, Township 31 North, Range 5 East, W.M., in Snohomish County Washington;

Except the North 30 feet thereof conveyed to Snohomish County under Auditor's File No. 442482 and 655266,

And Except the East 22 feet thereof;

Together with an easement for ingress and egress over under and across the East 30 feet of said North Half of the East Half of Government Lot 1 as recorded under Auditor's File Number 7706220049;

Except the North 30 feet as conveyed to Snohomish County;

And Except that portion lying within the above described main tract.

(Also known as Lot 1 of Snohomish County Short Plat No. ZA8812575, recorded under Auditor's File Number 9005010294)

Situate in the County of Snohomish, State of Washington.

Containing 7.31 acres, more or less.

The above-described lands contain a total of 63.96 acres, more or less, which is subject to all valid rights, reservations, rights-of-way, and easements of record.

This proclamation does not affect title to the lands described above, nor does it affect any valid existing easements for public roads and highways, public utilities and for railroads and pipelines and any other rights-of-way or reservations of record.

Dated: July 30, 2014.
Kevin K. Washburn,
Assistant Secretary—Indian Affairs.

[FR Doc. 2014-18480 Filed 8-4-14; 8:45 am]

BILLING CODE 4310-W7-P